DEPARTMENT OF TRANSPORTATION

Federal Aviation Administration

14 CFR Part 97

[Docket No. 31369; Amdt. No. 3956]

Standard Instrument Approach Procedures, and Takeoff Minimums and Obstacle Departure Procedures; Miscellaneous Amendments

AGENCY: Federal Aviation Administration (FAA), DOT.

ACTION: Final rule.

SUMMARY: This rule amends, suspends, or removes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide for the safe and efficient use of the navigable airspace and to promote safe flight operations under instrument flight rules at the affected airports.

DATES: This rule is effective May 14, 2021. The compliance date for each SIAP, associated Takeoff Minimums, and ODP is specified in the amendatory provisions.

The incorporation by reference of certain publications listed in the regulations is approved by the Director of the Federal Register as of May 14, 2021.

ADDRESSES: Availability of matter incorporated by reference in the amendment is as follows:

For Examination

1. U.S. Department of Transportation, Docket Ops-M30, 1200 New Jersey Avenue SE, West Bldg., Ground Floor, Washington, DC 20590-0001;

2. The FAA Air Traffic Organization Service Area in which the affected airport is located;

3. The office of Aeronautical Navigation Products, 6500 South MacArthur Blvd., Oklahoma City, OK 73169 or,

4. The National Archives and Records Administration (NARA).

For information on the availability of this material at NARA, email fedreg.legal@nara.gov or go to: https://www.archives.gov/federal-register/cfr/ibr-locations.html.

Availability

All SIAPs and Takeoff Minimums and ODPs are available online free of charge. Visit the National Flight Data Center online at nfdc.faa.gov to register. Additionally, individual SIAP and Takeoff Minimums and ODP copies may be obtained from the FAA Air Traffic Organization Service Area in which the affected airport is located.

FOR FURTHER INFORMATION CONTACT: Thomas J. Nichols, Flight Procedures and Airspace Group, Flight Technologies and Procedures Division, Flight Standards Service, Federal Aviation Administration. Mailing Address: FAA Mike Monroney Aeronautical Center, Flight Procedures and Airspace Group, 6500 South MacArthur Blvd., Registry Bldg. 29 Room 104, Oklahoma City, OK 73169. Telephone: (405) 954-4164.

SUPPLEMENTARY INFORMATION: This rule amends 14 CFR part 97 by amending the referenced SIAPs. The complete regulatory description of each SIAP is listed on the appropriate FAA Form 8260, as modified by the National Flight Data Center (NFDC)/Permanent Notice to Airmen (P-NOTAM), and is incorporated by reference under 5 U.S.C. 552(a), 1 CFR part 51, and 14 CFR 97.20. The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained on FAA form documents is unnecessary. This amendment provides the affected CFR sections, and specifies the SIAPs and Takeoff Minimums and ODPs with their applicable effective dates. This amendment also identifies the airport and its location, the procedure and the amendment number.

Availability and Summary of Material Incorporated by Reference

The material incorporated by reference is publicly available as listed in the ADDRESSES section.

The material incorporated by reference describes SIAPs, Takeoff Minimums and ODPs as identified in the amendatory language for part 97 of this final rule.

The Rule

This amendment to 14 CFR part 97 is effective upon publication of each separate SIAP and Takeoff Minimums and ODP as amended in the transmittal. For safety and timeliness of change considerations, this amendment incorporates only specific changes contained for each SIAP and Takeoff Minimums and ODP as modified by FDC permanent NOTAMs.

The SIAPs and Takeoff Minimums and ODPs, as modified by FDC permanent NOTAM, and contained in this amendment are based on criteria contained in the U.S. Standard for Terminal Instrument Procedures (TERPS). In developing these changes to SIAPs and Takeoff Minimums and ODPs, the TERPS criteria were applied only to specific conditions existing at the affected airports. All SIAP amendments in this rule have been previously issued by the FAA in a FDC NOTAM as an emergency action of immediate flight safety relating directly to published aeronautical charts.

The circumstances that created the need for these SIAP and Takeoff Minimums and ODP amendments require making them effective in less than 30 days.

Because of the close and immediate relationship between these SIAPs, Takeoff Minimums and ODPs, and safety in air commerce, I find that notice and public procedure under 5 U.S.C. 553(b) are impracticable and contrary to the public interest and, where applicable, under 5 U.S.C. 553(d), good cause exists for making these SIAPs effective in less than 30 days.

The FAA has determined that this regulation only involves an established body of technical regulations for which frequent and routine amendments are necessary to keep them operationally current. It, therefore—(1) is not a “significant regulatory action” under Executive Order 12866; (2) is not a “significant rule” under DOT regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, Navigation (air).

Issued in Washington, DC, on April 30, 2021.
Wade Terrell,
Aviation Safety, Manager, Flight Procedures & Airspace Group, Flight Technologies and Procedures Division.

Adoption of the Amendment

Accordingly, pursuant to the authority delegated to me, Title 14, CFR part 97, is amended by amending Standard Instrument Approach Procedures and Takeoff Minimums and ODPs, effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

By amending: § 97.23 VOR, VOR/DME, VOR or TACAN, and VOR/DME or TACAN; § 97.25 LOC, LOC/DME, LDA, LDA/DME, SDF, SDF/DME; § 97.27 NDB, NDB/DME; § 97.29 ILS, ILS/DME, MLS, MLS/DME, MLS/RNAV; § 97.31 RADAR SIAPs; § 97.33 RNAV SIAPs; and § 97.35 COPTER SIAPs, Identified as follows:

* * * Effective Upon Publication

AIRAC date | State | City | Airport | FDC No. | FDC date | Subject
17-Jun-21 | MA | Stow | Minute Man Air Field | 0/9425 | 2/26/21 | RNAV (GPS) RWY 21, Orig-C.
17-Jun-21 | GA | Mc Rae | Telfair-Wheeler | 1/0312 | 3/25/21 | RNAV (GPS) RWY 21, Amdt 1B.
17-Jun-21 | AK | Marshall | Marshall Don Hunter Sr | 1/0584 | 4/16/21 | RNAV (GPS) RWY 7, Amdt 2A.
17-Jun-21 | AK | Marshall | Marshall Don Hunter Sr | 1/0586 | 4/16/21 | RNAV (GPS)-A, Amdt 2.
17-Jun-21 | AZ | Safford | Safford Rgnl | 1/0612 | 2/9/21 | RNAV (GPS) RWY 12, Orig-C.
17-Jun-21 | AK | Napaskiak | Napaskiak | 1/0619 | 4/16/21 | RNAV (GPS) RWY 2, Orig.
17-Jun-21 | AK | Napaskiak | Napaskiak | 1/0621 | 4/16/21 | RNAV (GPS) RWY 20, Orig.
17-Jun-21 | AK | Kobuk | Kobuk | 1/0789 | 4/5/21 | RNAV (GPS) RWY 27, Orig-A.
17-Jun-21 | AK | Kobuk | Kobuk | 1/0791 | 4/5/21 | RNAV (GPS) RWY 9, Orig-A.
17-Jun-21 | AK | Scammon Bay | Scammon Bay | 1/2222 | 4/5/21 | RNAV (GPS)-B, Orig-A.
17-Jun-21 | OR | Albany | Albany Muni | 1/2478 | 4/5/21 | VOR/DME OR GPS-A, Amdt 4A.
17-Jun-21 | AK | Seward | Seward | 1/2686 | 4/21/21 | RNAV (GPS)-A, Orig-A.
17-Jun-21 | AK | Igiugig | Igiugig | 1/3706 | 4/5/21 | RNAV (GPS) RWY 23, Orig-C.
17-Jun-21 | AK | Igiugig | Igiugig | 1/3707 | 4/5/21 | RNAV (GPS) RWY 5, Orig-C.
17-Jun-21 | AK | Kivalina | Kivalina | 1/3777 | 4/5/21 | RNAV (GPS) RWY 12, Amdt 1.
17-Jun-21 | AK | Kivalina | Kivalina | 1/3778 | 4/5/21 | RNAV (GPS) RWY 30, Amdt 1A.
17-Jun-21 | PA | Latrobe | Arnold Palmer Rgnl | 1/3855 | 4/7/21 | ILS OR LOC RWY 24, Amdt 17B.
17-Jun-21 | PA | Reading | Reading Rgnl/Carl A Spaatz Fld | 1/3983 | 4/23/21 | ILS OR LOC RWY 13, Amdt 1D.
17-Jun-21 | MO | Boonville | Jesse Viertel Meml | 1/4045 | 2/17/21 | RNAV (GPS) RWY 18, Orig-B.
17-Jun-21 | MO | Boonville | Jesse Viertel Meml | 1/4046 | 2/17/21 | RNAV (GPS) RWY 36, Orig-A.
17-Jun-21 | AZ | Phoenix | Phoenix-Mesa Gateway | 1/4058 | 2/17/21 | VOR OR TACAN RWY 30C, Amdt 2B.
17-Jun-21 | AZ | Phoenix | Phoenix-Mesa Gateway | 1/4059 | 2/17/21 | RNAV (GPS) RWY 12R, Amdt 1C.
17-Jun-21 | AZ | Phoenix | Phoenix-Mesa Gateway | 1/4060 | 2/17/21 | ILS OR LOC RWY 30C, Amdt 3B.
17-Jun-21 | AZ | Phoenix | Phoenix-Mesa Gateway | 1/4061 | 2/17/21 | RNAV (GPS) Y RWY 30C, Amdt 1B.
17-Jun-21 | AZ | Phoenix | Phoenix-Mesa Gateway | 1/4062 | 2/17/21 | RNAV (GPS) RWY 30L, Amdt 1C.
17-Jun-21 | AZ | Phoenix | Phoenix-Mesa Gateway | 1/4063 | 2/17/21 | RNAV (GPS) RWY 12C, Amdt 1B.
17-Jun-21 | MD | Baltimore | Martin State | 1/4073 | 2/25/21 | LOC RWY 15, Amdt 3C.
17-Jun-21 | MD | Baltimore | Martin State | 1/4074 | 2/25/21 | RNAV (GPS) RWY 33, Amdt 1A.
17-Jun-21 | MD | Baltimore | Martin State | 1/4076 | 2/25/21 | RNAV (GPS) RWY 15, Amdt 1B.
17-Jun-21 | MD | Baltimore | Martin State | 1/4079 | 2/25/21 | LDA RWY 33, Orig-A.
17-Jun-21 | ME | Bar Harbor | Hancock County-Bar Harbor | 1/4111 | 4/5/21 | ILS OR LOC RWY 22, Amdt 6D.
17-Jun-21 | ME | Bar Harbor | Hancock County-Bar Harbor | 1/4112 | 4/5/21 | RNAV (GPS) RWY 22, Amdt 1A.
17-Jun-21 | ME | Bar Harbor | Hancock County-Bar Harbor | 1/4113 | 4/5/21 | RNAV (GPS) RWY 4, Amdt 1B.
17-Jun-21 | TX | Anahuac | Chambers County | 1/4261 | 4/6/21 | RNAV (GPS) RWY 12, Orig-B.
17-Jun-21 | LA | New Orleans | Lakefront | 1/4296 | 2/25/21 | VOR/DME RWY 36L, Amdt 9.
17-Jun-21 | LA | New Orleans | Lakefront | 1/4298 | 2/25/21 | RNAV (GPS) RWY 36L, Orig-A.
17-Jun-21 | LA | New Orleans | Lakefront | 1/4302 | 2/25/21 | RNAV (GPS) RWY 18R, Amdt 2.
17-Jun-21 | LA | New Orleans | Lakefront | 1/4311 | 2/25/21 | ILS OR LOC RWY 18R, Amdt 1.
17-Jun-21 | AK | Selawik | Selawik | 1/4444 | 4/23/21 | RNAV (GPS) RWY 27, Orig-B.
17-Jun-21 | AK | Selawik | Selawik | 1/4445 | 4/23/21 | RNAV (GPS) RWY 4, Orig-D.
17-Jun-21 | AK | Selawik | Selawik | 1/4446 | 4/23/21 | RNAV (GPS) Y RWY 22, Orig-D.
17-Jun-21 | AK | Selawik | Selawik | 1/4447 | 4/23/21 | VOR RWY 4, Amdt 1C.
17-Jun-21 | AK | Selawik | Selawik | 1/4448 | 4/23/21 | VOR RWY 22, Amdt 1C.
17-Jun-21 | SC | Charleston | Charleston Exec | 1/4476 | 2/17/21 | RNAV (GPS) RWY 27, Amdt 2B.
17-Jun-21 | SC | Charleston | Charleston Exec | 1/4477 | 2/17/21 | RNAV (GPS) RWY 9, Amdt 3B.
17-Jun-21 | SC | Charleston | Charleston Exec | 1/4478 | 2/17/21 | RNAV (GPS) RWY 4, Orig.
17-Jun-21 | SC | Charleston | Charleston Exec | 1/4481 | 2/17/21 | ILS OR LOC RWY 9, Amdt 2C.
17-Jun-21 | MO | Kirksville | Kirksville Rgnl | 1/4486 | 2/17/21 | VOR-A, Amdt 15A.
17-Jun-21 | MO | Kirksville | Kirksville Rgnl | 1/4487 | 2/17/21 | RNAV (GPS) RWY 36, Amdt 2A.
17-Jun-21 | MO | Kirksville | Kirksville Rgnl | 1/4488 | 2/17/21 | RNAV (GPS) RWY 18, Amdt 2A.
17-Jun-21 | MO | Kirksville | Kirksville Rgnl | 1/4489 | 2/17/21 | ILS OR LOC/DME RWY 36, Amdt 1A.
17-Jun-21 | WA | Seattle | Boeing Fld/King County Intl | 1/4537 | 2/24/21 | RNAV (RNP) Z RWY 14R, Amdt 1.
17-Jun-21 | WA | Seattle | Boeing Fld/King County Intl | 1/4541 | 2/24/21 | RNAV (GPS) Y RWY 14R, Amdt 1.
17-Jun-21 | MD | Baltimore | Martin State | 1/4587 | 2/25/21 | VOR OR TACAN RWY 15, Orig-C.
17-Jun-21 | FL | Fort Myers | Southwest Florida Intl | 1/4770 | 2/25/21 | VOR/DME OR TACAN RWY 24, Amdt 2B.
17-Jun-21 | FL | Fort Myers | Southwest Florida Intl | 1/4771 | 2/25/21 | ILS OR LOC/DME RWY 6, Amdt 7A.
17-Jun-21 | FL | Fort Myers | Southwest Florida Intl | 1/4772 | 2/25/21 | RNAV (GPS) RWY 24, Amdt 1B.
17-Jun-21 | FL | Fort Myers | Southwest Florida Intl | 1/4773 | 2/25/21 | RNAV (GPS) RWY 6, Amdt 1B.
17-Jun-21 | OH | East Liverpool | Columbiana County | 1/4775 | 4/23/21 | RNAV (GPS) RWY 25, Orig.
17-Jun-21 | MO | New Madrid | County Meml | 1/4827 | 2/22/21 | RNAV (GPS) RWY 18, Orig.
17-Jun-21 | MO | New Madrid | County Meml | 1/4829 | 2/22/21 | RNAV (GPS) RWY 36, Orig.
17-Jun-21 | ND | Casselton | Casselton Robert Miller Rgnl | 1/4832 | 2/22/21 | RNAV (GPS) RWY 31, Amdt 1A.
17-Jun-21 | ND | Casselton | Casselton Robert Miller Rgnl | 1/4833 | 2/22/21 | VOR/DME RWY 31, Amdt 1B.
17-Jun-21 | IL | Springfield | Abraham Lincoln Capital | 1/4941 | 4/7/21 | ILS OR LOC RWY 31, Amdt 2B.
17-Jun-21 | IL | Springfield | Abraham Lincoln Capital | 1/4942 | 4/7/21 | RADAR-1, Amdt 9B.
17-Jun-21 | MO | Rolla/Vichy | Rolla Ntl | 1/5034 | 2/22/21 | VOR RWY 22, Amdt 8.
17-Jun-21 | MO | Rolla/Vichy | Rolla Ntl | 1/5035 | 2/22/21 | VOR/DME RWY 4, Amdt 3.
17-Jun-21 | MO | Rolla/Vichy | Rolla Ntl | 1/5036 | 2/22/21 | RNAV (GPS) RWY 22, Orig-A.
17-Jun-21 | MO | Rolla/Vichy | Rolla Ntl | 1/5037 | 2/22/21 | RNAV (GPS) RWY 4, Orig.
17-Jun-21 | CA | Palm Springs | Bermuda Dunes | 1/5167 | 2/19/21 | VOR-C, Orig-B.
17-Jun-21 | CA | Palm Springs | Bermuda Dunes | 1/5171 | 2/19/21 | RNAV (GPS) RWY 28, Orig-A.
17-Jun-21 | CA | Palm Springs | Bermuda Dunes | 1/5172 | 2/19/21 | RNAV (GPS) RWY 10, Orig-B.
17-Jun-21 | MD | Ocean City | Ocean City Muni | 1/5190 | 4/6/21 | RNAV (GPS) RWY 14, Orig-G.
17-Jun-21 | MD | Ocean City | Ocean City Muni | 1/5191 | 4/6/21 | RNAV (GPS) RWY 2, Orig-C.
17-Jun-21 | MN | Brainerd | Brainerd Lakes Rgnl | 1/5221 | 4/8/21 | ILS OR LOC/DME RWY 34, Amdt 2.
17-Jun-21 | NH | Jaffrey | Jaffrey/Silver Ranch | 1/5285 | 4/26/21 | VOR-A, Amdt 8A.
17-Jun-21 | ME | Dexter | Dexter Rgnl | 1/5473 | 4/6/21 | RNAV (GPS) RWY 16, Orig-B.
17-Jun-21 | ME | Dexter | Dexter Rgnl | 1/5475 | 4/6/21 | RNAV (GPS) RWY 34, Orig-A.
17-Jun-21 | NY | Oneonta | Albert S Nader Rgnl | 1/5483 | 4/8/21 | RNAV (GPS) RWY 6, Orig-C.
17-Jun-21 | NY | Oneonta | Albert S Nader Rgnl | 1/5490 | 4/8/21 | RNAV (GPS) RWY 24, Orig-C.
17-Jun-21 | MI | Manistee | Manistee County-Blacker | 1/5648 | 4/7/21 | ILS OR LOC RWY 28, Amdt 1B.
17-Jun-21 | MI | Manistee | Manistee County-Blacker | 1/5649 | 4/7/21 | RNAV (GPS) RWY 28, Orig B.
17-Jun-21 | MI | Manistee | Manistee County-Blacker | 1/5650 | 4/7/21 | RNAV (GPS) RWY 10, Orig B.
17-Jun-21 | TX | Eagle Lake | Eagle Lake | 1/6411 | 4/6/21 | VOR RWY 17, Amdt 5A.
17-Jun-21 | MN | Roseau | Roseau Muni/Rudy Billberg Fld | 1/6852 | 2/25/21 | RNAV (GPS) RWY 16, Orig A.
17-Jun-21 | MN | Roseau | Roseau Muni/Rudy Billberg Fld | 1/6853 | 2/25/21 | RNAV (GPS) RWY 34, Orig.
17-Jun-21 | NH | Laconia | Laconia Muni | 1/6869 | 2/26/21 | RNAV (GPS) RWY 8, Orig-B.
17-Jun-21 | NH | Laconia | Laconia Muni | 1/6870 | 2/26/21 | RNAV (GPS) RWY 26, Orig-C.
17-Jun-21 | AK | Northway | Northway | 1/7043 | 4/14/21 | RNAV (GPS) RWY 5, Orig-A.
17-Jun-21 | AK | Northway | Northway | 1/7045 | 4/14/21 | RNAV (GPS) RWY 23, Amdt 1C.
17-Jun-21 | AK | Northway | Northway | 1/7047 | 4/14/21 | VOR/DME-A, Amdt 1.
17-Jun-21 | MS | Greenville | Greenville Mid-Delta | 1/7119 | 2/25/21 | RNAV (GPS) RWY 36R, Orig-A.
17-Jun-21 | MS | Greenville | Greenville Mid-Delta | 1/7120 | 2/25/21 | RNAV (GPS) RWY 36L, Orig-C.
17-Jun-21 | MS | Greenville | Greenville Mid-Delta | 1/7121 | 2/25/21 | ILS OR LOC RWY 18L, Amdt 9H.
17-Jun-21 | MS | Greenville | Greenville Mid-Delta | 1/7124 | 2/25/21 | VOR/DME RWY 18R, Orig-A.
17-Jun-21 | MS | Greenville | Greenville Mid-Delta | 1/7127 | 2/25/21 | RNAV (GPS) RWY 18R, Orig-A.
17-Jun-21 | MS | Greenville | Greenville Mid-Delta | 1/7128 | 2/25/21 | RNAV (GPS) RWY 18L, Orig-B.
17-Jun-21 | FL | Dunnellon | Marion County | 1/7710 | 2/26/21 | RNAV (GPS) RWY 23, Orig-A.
17-Jun-21 | TX | Eagle Lake | Eagle Lake | 1/8112 | 4/6/21 | RNAV (GPS) RWY 17, Amdt 1B.
17-Jun-21 | NC | Goldsboro | Wayne Exec Jetport | 1/8510 | 2/25/21 | ILS OR LOC RWY 23, Amdt 2B.
17-Jun-21 | NC | Goldsboro | Wayne Exec Jetport | 1/8511 | 2/25/21 | RNAV (GPS) RWY 23, Amdt 1B.
17-Jun-21 | NC | Goldsboro | Wayne Exec Jetport | 1/8512 | 2/25/21 | RNAV (GPS) RWY 5, Amdt 1A.
17-Jun-21 | NC | Goldsboro | Wayne Exec Jetport | 1/8514 | 2/25/21 | VOR-A, Amdt 6.
17-Jun-21 | TX | Commerce | Commerce Muni | 1/8570 | 2/24/21 | RNAV (GPS) RWY 18, Orig-B.
17-Jun-21 | CA | Jackson | Westover Fld Amador County | 1/8591 | 2/9/21 | VOR/DME RWY 1, Amdt 1D.
17-Jun-21 | AK | Kaltag | Kaltag | 1/8748 | 4/16/21 | RNAV (GPS) RWY 21, Amdt 1B.
17-Jun-21 | TX | Baytown | Baytown | 1/9407 | 4/6/21 | RNAV (GPS) RWY 32, Orig.
17-Jun-21 | TX | Baytown | Baytown | 1/9409 | 4/6/21 | RNAV (GPS) RWY 14, Orig.
17-Jun-21 | TN | Lebanon | Lebanon Muni | 1/9413 | 4/5/21 | RNAV (GPS) RWY 1, Orig.
17-Jun-21 | TN | Lebanon | Lebanon Muni | 1/9414 | 4/5/21 | RNAV (GPS) RWY 19, Orig.
17-Jun-21 | MN | Hibbing | Range Rgnl | 1/9806 | 2/22/21 | RNAV (GPS) RWY 31, Amdt 1A.
17-Jun-21 | MN | Hibbing | Range Rgnl | 1/9809 | 2/22/21 | RNAV (GPS) RWY 13, Amdt 1B.
17-Jun-21 | MN | Hibbing | Range Rgnl | 1/9810 | 2/22/21 | ILS OR LOC RWY 31, Amdt 13.

[FR Doc. 2021-10206 Filed 5-13-21; 8:45 am]

BILLING CODE 4910-13-P